DEPARTMENT OF ENERGY

Western Area Power Administration

Parker-Davis Project—Rate Order No. WAPA-113

AGENCY: Western Area Power Administration, DOE.

ACTION: Notice of order extending the firm electric service and transmission services rate methodologies.

SUMMARY: This action is to extend the existing Parker-Davis Project (P-DP) firm electric service rate schedule PD-F6, and the transmission service rate schedules PD-FT6, PD-FCT6, and PD-NFT6 through September 30, 2006. Without this action, the existing rate methodologies will expire on September 30, 2004, and no rate methodologies will be in effect for these services.

FOR FURTHER INFORMATION CONTACT: Mr. Jack Murray, Rates Team Lead, Desert Southwest Customer Service Region, Western Area Power Administration, P.O. Box 6457, Phoenix, AZ 85005-6457, (602) 352-2442, or e-mail jmurray@wapa.gov.

SUPPLEMENTARY INFORMATION: By Delegation Order No. 00-037.00 approved December 6, 2001, the Secretary of Energy delegated: (1) The authority to develop power and transmission rates to Western's Administrator; (2) the authority to confirm, approve, and place such rates into effect on an interim basis to the Deputy Secretary of Energy; and (3) the authority to confirm, approve, and place into effect on a final basis, to remand, or to disapprove such rates to the Federal Energy Regulatory Commission.

The existing rate methodologies contained within Rate Order No. WAPA-75 were approved for 5 years and extended through September 30, 2004.

Western is currently evaluating methodologies and conducting a public process proposing a Multi-System Transmission Rate for cost recovery purposes for the P-DP, the Pacific Northwest-Pacific Southwest Intertie Project, and the Central Arizona Project. The public process may determine transmission rate methodologies that will supersede rate schedules PD-FT6, PD-FCT6, and PD-NFT6. Rate schedule PD-F6 for firm electric service may need modification to adapt to changes in the transmission rate methodology. Therefore, Western believes it is premature to proceed with a formal rate process for these rate schedules at this time, making it necessary to extend the current rate methodologies under 10 CFR 903. Upon its approval, Rate Order No. WAPA-75, previously extended under Rate Order No. WAPA-98, will be extended under Rate Order No. WAPA-113.

Following review of Western's proposal within the DOE, I hereby approve Rate Order No. WAPA-113, which extends the existing P-DP firm electric service and transmission services rate methodologies through September 30, 2006.

Dated: September 2, 2004.
Kyle E. McSlarrow,
Deputy Secretary.

Department of Energy, Deputy Secretary

[Rate Order No. WAPA-113]

In the matter of: Western Area Power Administration Rate Extension for Firm Electric Service And Transmission Services Rate Methodologies; Order Confirming and Approving an Extension of the Parker-Davis Project Firm Electric Service and Transmission Services Rate Methodologies

These service rate methodologies were established following section 302 of the Department of Energy (DOE) Organization Act (42 U.S.C. 7152). This Act transferred to and vested in the Secretary of Energy (Secretary) the power marketing functions of the Secretary of the Department of the Interior and the Bureau of Reclamation under the Reclamation Act of 1902 (ch. 1093, 32 Stat. 388), as amended and supplemented by subsequent enactments, particularly section 9(c) of the Reclamation Project Act of 1939 (43 U.S.C. 485h(c)), and other Acts that specifically apply to the project system involved.

By Delegation Order No. 00-037.00 approved December 6, 2001, the Secretary delegated: (1) The authority to develop power and transmission rates on a non-exclusive basis to the Administrator of the Western Area Power Administration (Western); (2) the authority to confirm, approve, and place such rates into effect on an interim basis to the Deputy Secretary of Energy; and (3) the authority to confirm, approve, and place into effect on a final basis, to remand, or to disapprove such rates to the Federal Energy Regulatory Commission.

Background

The existing rate methodologies contained within Rate Order No. WAPA-75 were approved for 5 years beginning on November 1, 1997. By Rate Order No. WAPA-98, the rate was extended for 2 years through September 30, 2004.

Discussion

Western is currently evaluating methodologies and conducting a public process proposing a Multi-System Transmission Rate (MSTR) for cost recovery purposes for the Parker-Davis Project, the Pacific Northwest-Pacific Southwest Intertie Project, and the Central Arizona Project, which will replace the current P-DP transmission rate methodologies. The firm electric service rate methodology may need modification to adapt to changes in the transmission rate methodology. Western believes it is premature to proceed with a formal rate process for P-DP at this time making it necessary to extend the current rate methodologies under 10 CFR 903. Upon its approval, Rate Order No. WAPA-75, previously extended under Rate Order 98, will be extended under Rate Order No. WAPA-113 for a 2-year period through September 30, 2006.

Order

In view of the above and under the authority delegated to me by the Secretary, I hereby extend the existing firm electric service rate schedule PD-F6 and transmission service rate schedules PD-FT6, PD-FCT6, and PD-NFT6. These existing rate schedules shall remain in effect through September 30, 2006.

Dated: September 2, 2004.
Kyle E. McSlarrow,
Deputy Secretary.

[FR Doc. 04-20670 Filed 9-13-04; 8:45 am]

BILLING CODE 6450-01-P